DEPARTMENT OF THE INTERIOR

National Park Service

[NPS-MWR-CUVA-17694; PPMWMWROW2/PMP00UP05.YP0000]

Notice of Intent To Prepare an Environmental Impact Statement and Management Plan for Moose, Wolves, and Vegetation, Isle Royale National Park, Michigan

AGENCY: National Park Service, Interior.

ACTION: Notice of intent.

SUMMARY: The National Park Service (NPS) announces that we are preparing an Environmental Impact Statement (EIS) for a plan to determine how to manage the Isle Royale moose population in light of the dynamic changes occurring on the island, in particular the declining wolf population.

DATES: The public comment period will begin on the date this Notice of Intent is published in the Federal Register. The comment period will close 30 days after the last scheduled public meeting and all comments must be postmarked or transmitted by this date.

ADDRESSES: Information, including a copy of the public scoping brochure, will be available for public review online at http://parkplanning.nps.gov/ISRO. Limited copies of the brochure will also be available at Isle Royale National Park, 800 East Lakeshore Drive, Houghton, Michigan and by request.

FOR FURTHER INFORMATION CONTACT: Superintendent Phyllis Green, or Chief of Natural Resources Paul Brown, Isle Royale National Park, Wolf-Moose-Vegetation Management Plan, 800 East Lakeshore Drive, Houghton, Michigan 49931-1896, or by telephone at (906) 482-0984.

SUPPLEMENTARY INFORMATION: Isle Royale is an island archipelago in the northwestern portion of Lake Superior. Organisms that live on islands have dynamic populations and are subject to immigration and extinction events. Local extirpation is natural and expected, as is establishment and re-establishment of new populations.

Wolves were first documented on Isle Royale through identification of tracks in 1949-50 and by 1957 the island supported an estimated 25 wolves. The first systematic research on Isle Royale wolves was conducted in the 1950s and has continued largely unabated. The research on the “Wolves of Isle Royale” is now world-renowned. Like many mainland wolf populations, the island population has fluctuated widely over this time, though on Isle Royale they have always been protected and never hunted or subjected to control efforts. Population variation on the island is related to inherent dynamic wolf ecology, island biogeography, and presence of disease in the wolf population. Wolves on Isle Royale have recently declined and the primary cause is thought to be genetic inbreeding leading to low productivity. With currently less than 10 individual wolves on the island, scientists differ on what will happen to the population in the short-term (25 years). Many believe that their persistence is doubtful unless new wolves emigrate or are introduced to the island.

The moose population on Isle Royale (which arrived on the island in the early 1900s) has fluctuated dramatically (500 to several thousand) over the past century. Moose have important effects on island vegetation including forest cover and wolves are the only moose predator on the island.

The park lies within a temperate-boreal forest transition zone where temperate tree species are at or near their northern range limits and boreal trees are near their southern range limits. Recent trends suggest the beginning of a shift from boreal to temperate vegetation. The relatively short-lived boreal paper birch and aspen, which established widely on lands disturbed by European settlement activities, are reaching the end of their natural lifespans and rapid successional changes in favor of more shade-tolerant tree species are underway. Successional trends on the island indicate that recent conditions favored temperate hardwood species, which expanded and replaced boreal trees. Since moose favor some boreal tree species such as balsam fir for food, this succession may alter the available moose forage in the future.

The wolf-moose-vegetation food web is tightly coupled. Since the wolf population at Isle Royale is very low and local extirpation of wolves is possible in the near future (e.g. only one gender remains on the island; the pack has been non-reproductive for three to five years; or there are no remaining wolves), the moose population is likely to continue to increase, resulting in impacts to vegetation and forest cover from moose herbivory.

A plan is needed to address environmental impacts that could occur to the moose population and vegetation from the potential extirpation of wolves. The purpose of the plan is to provide direction for managing the Isle Royale moose and wolf populations for at least the next 20 years in light of the dynamic changes occurring on the island.

In this context, we must determine allowable types of change. Specifically, we need to decide whether to intervene with a declined or extirpated wolf population in order to perpetuate the role wolves play with regard to the moose population through predation and spatial distribution (wolf management actions); whether to directly intervene with an increased moose population (moose management actions); and whether to intervene to manage vegetation to mitigate impacts from moose herbivory as temperate species replace the historical boreal forest (vegetation management actions). For each of these decisions, we must determine the type and extent of intervention appropriate in a designated wilderness given a changing climate. While specific alternatives have not yet been developed, options available include: (1) not actively managing moose, wolves, or vegetation; (2) managing moose abundance and distribution; (3) managing wolf abundance by supplementing the current wolf population or introducing wolves following extirpation; and (4) managing vegetation through the use of fire, direct restoration, or other tools.

Interested individuals, organizations, and agencies are encouraged to provide written comments regarding the scope of issues to be addressed in the EIS, alternative approaches to managing wolves, moose, or vegetation on Isle Royale, and other concerns regarding this conservation planning and environmental impact analysis process. Within the comment period, we intend to hold public scoping meetings on the EIS in the vicinity of the park, including Houghton, Michigan. Specific dates, times and locations of the public scoping meetings will be made available via a press release to local media, a public scoping brochure to be mailed or emailed to interested parties and on the NPS's Planning, Environment and Public Comment (PEPC) Web site at http://parkplanning.nps.gov/ISRO. The NPS will provide additional opportunities for the public to offer written comments upon publication and release of the draft plan/EIS.

If you wish to comment during the public comment period, you may use any one of several methods. The preferred method for submitting comments is at the PEPC Web site address given above. You may also mail or hand-deliver your comments to the Superintendent or the Chief of Natural Resources at the address given above. Written comments will also be accepted during scheduled public meetings. Comments will not be accepted by fax, email, or any other way than those specified above. Bulk comments in any format (hard copy or electronic) submitted on behalf of others will not be accepted. Before including your address, phone number, email address, or other personal identifying information in your comment, you should be aware that your entire comment—including your personal identifying information—may be made publicly available at any time. While you can ask us in your comment to withhold your personal identifying information from public review, we cannot guarantee that we will be able to do so.

Dated: February 13, 2015.
Patricia S. Trap,
Acting Regional Director, Midwest Region.

Editorial Note: This document was received at the Office of the Federal Register on Monday, July 06, 2015.

[FR Doc. 2015-16851 Filed 7-9-15; 8:45 am]

BILLING CODE 4310-MA-P